DEPARTMENT OF COMMERCE

U.S. Census Bureau

Proposed Information Collection; Comment Request; 2014 Business R&D and Innovation Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written or on-line comments must be submitted on or before July 29, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Mary Potter, U.S. Census Bureau, MCD HQ-7K157, 4600 Silver Hill Rd., Suitland, MD 20746, (301) 763-4207 (or via the internet at mary.c.potter@census.gov).

SUPPLEMENTARY INFORMATION:

I. Abstract

The U.S. Census Bureau, with support from the National Science Foundation (NSF), plans to conduct the Business R&D and Innovation Survey (BRDIS). The BRDIS covers all domestic for-profit businesses that have 5 or more paid employees and are classified in certain industries. The BRDIS provides the only comprehensive data on R&D costs and detailed expenses by type and industry.

The Census Bureau has conducted an R&D survey since 1957 (the Survey of Industrial Research and Development (SIRD) from 1957-2007 and BRDIS from 2008-present), collecting primarily financial information on the systematic work companies were undertaking with the goal of discovering new knowledge or using existing knowledge to develop new or improved goods and services. The 2014 BRDIS will continue to collect the following types of information:

• R&D expense based on accounting standards.

• Worldwide R&D of domestic companies.

• Business segment detail.

• R&D related capital expenditures.

• Detailed data about the R&D workforce.

• R&D strategy and data on the potential impact of R&D on the market.

• R&D directed to application areas of particular national interest.

• Data measuring innovation, intellectual property protection activities and technology transfer.

The BRDIS utilizes a booklet instrument that facilitates the obtaining of information from various contacts within each company that have the best understanding of the concepts and definitions being presented as well as access to the information necessary to provide the most accurate response. The sections of the booklet have been defined by grouping questions based on subject matter areas within the company and currently include: A company information section that includes detailed innovation questions; a financial section focused on company R&D expenses; a human resources section; an R&D strategy and management section; an IP and technology transfer section; and a section focused on R&D that is funded or paid for by third parties. A web instrument is also available to the companies. The web instrument incorporates the use of Excel spreadsheets that are provided to facilitate the electronic collection of information within the companies. Companies have the capability to download the spreadsheets from the Census Bureau's Web site; Census Bureau also provides a spreadsheet that is programmed to consolidate the information for the companies so the company can simply upload this information into the web instrument for both form types.

II. Method of Collection

The Census Bureau implements a dual-mode collection methodology that utilizes both web based and paper instruments. The BRDI-1 respondents will receive a letter at the initial mail out that instructs them to go to the Census Bureau's Business Help Site. Once the respondents are at the Web site they can print a copy of the form, download a PDF version, download Excel versions of each section of the form or they can request that the booklet be mailed to them. They can also access the web-based instrument to submit their data on-line using the username and password that are supplied in the letter. The BRDI-1 is the more detailed collection instrument. This form or booklet is 48 pages in length; it is mailed to companies with known R&D activity greater than $1 mil. The BRD-1(S) respondents receive the booklet instrument at the initial mail out. They also receive an informational flyer that provides instructions on how to use the web based instrument. The BRD-1(S) is a much shorter version (8 pages). It is mailed to the majority of the sampled companies where the Census Bureau has no information about the companies' R&D activity. Companies are asked to respond within 60 days of the initial mail out.

III. Data

OMB Control Number: 0607-0912.

Form Number(s): BRDI-1 & BRD-1(S).

Type of Review: Regular submission.

Affected Public: For-profit (public or private), domestic businesses that have 5 or more paid employees and are classified in certain industries.

Estimated Number of Respondents:

BRDI-1—(Long Form) | 7,000
BRD-1(S)—(Short Form) | 38,000
Total | 45,000

Estimated Time per Response:

BRDI-1—(Long Form) | 14.85 hrs.
BRD-1(S)—(Short Form) | 1.015 hrs.

Estimated Total Annual Burden Hours: 142,540.

Estimated Total Annual Cost to Public: $0.

Respondent's Obligation: Mandatory.

Legal Authority: Title 13 U.S.C. 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 23, 2014.
Glenna Mickelson,
Management Analyst, Office of the Chief Information Officer.

[FR Doc. 2014-12513 Filed 5-29-14; 8:45 am]

BILLING CODE 3510-07-P